DEPARTMENT OF LABOR

Employment and Training Administration

[TA-W-55,304]

Seagate Technology, Inc., Bloomington, MN; Notice of Termination of Investigation

Pursuant to Section 221 of the Trade Act of 1974, as amended, an investigation was initiated on July 23, 2004 in response to a petition filed by a state representative on behalf of workers at Seagate Technology, Inc., Bloomington, Minnesota.

The petitioning group of workers is covered by an earlier petition instituted on July 21, 2004 (TA-W-55,285) that is the subject of an ongoing investigation for which a determination has not yet been issued. Further investigation in this case would duplicate efforts and serve no purpose; therefore the investigation under this petition has been terminated.

Signed at Washington, DC this 26th day of July 2004.
Linda G. Poole,
Certifying Officer, Division of Trade Adjustment Assistance.

[FR Doc. 04-18334 Filed 8-10-04; 8:45 am]

BILLING CODE 4510-30-P